DEPARTMENT OF THE TREASURY

Proposed Collection; Comment Request

AGENCY: Departmental Offices; Department of the Treasury.

SUMMARY: The Department of the Treasury, as part of its continuing effort to reduce paperwork burdens, invites the general public and other Federal agencies to comment on the revision of an information collection that is to be proposed for approval by the Office of Management and Budget. The Office of International Affairs of the Department of the Treasury is soliciting comments concerning Treasury International Capital Form SLT, Aggregate Holdings of Long-Term Securities by U.S. and Foreign Residents. The Current Actions below make electronic filing mandatory.

DATES: Written comments should be received on or before April 14, 2014 to be assured of consideration.

ADDRESSES: Direct all written comments to Dwight Wolkow, International Portfolio Investment Data Systems, Department of the Treasury, Room 5422, 1500 Pennsylvania Avenue NW., Washington, DC 20220. In view of possible delays in mail delivery, please also notify Mr. Wolkow by email (comments2TIC@treasury.gov), FAX (202-622-2009) or telephone (202-622-1276).

FOR FURTHER INFORMATION CONTACT: Copies of the proposed forms and instructions are available on the Treasury's TIC Forms Web page, http://www.treasury.gov/resource-center/data-chart-center/tic/Pages/forms.aspx. Requests for additional information should be directed to Mr. Wolkow.

SUPPLEMENTARY INFORMATION: Title: Treasury International Capital Form SLT, Aggregate Holdings of Long-Term Securities by U.S. and Foreign Residents.

OMB Control Number: 1505-0235.

Abstract: Form SLT is part of the Treasury International Capital (TIC) reporting system, which is required by law (22 U.S.C. 286f; 22 U.S.C. 3103; E.O. 10033; 31 CFR part 128), and is designed to collect timely information on international portfolio capital movements. Form SLT is a monthly report on cross-border portfolio investment in long-term marketable securities by U.S. and foreign residents. This information is used by the U.S. Government in the formulation of international financial and monetary policies and for the preparation of the U.S. balance of payments accounts and the U.S. international investment position.

Current Actions: (a) Electronic filing of the TIC Form SLT report will be mandatory. More specifically, the last part of Section II.H, Submission of Reports, in the instructions will say, in effect, that the TIC Form SLT report must be submitted electronically by using the Federal Reserve System's “Reporting Central” electronic submission system. It is easy to use, secure, provides confirmation of the receipt of the data, and performs a number of validity checks of your file format. The SLT report can no longer be filed by mail or Fax and can no longer be reported on computer or other paper. Because it usually takes at least a month to set up a “Reporting Central” account, respondents may wish to obtain more information soon on “Reporting Central” by contacting the Federal Reserve Bank of New York at 212-720-6300. (b) The glossaries for all Treasury International Capital (“TIC”) reports will be consolidated into a single document which will provide more consistency across the TIC system. As a result, the TIC SLT reporting instructions will not include a glossary but will point to the separate consolidated Glossary document on the Treasury Web site. [Note: some other clarifications may be made in the instructions and glossary.] (c) These changes will be effective beginning with the reports as of June 30, 2014.

Type of Review: Revision of a currently approved collection.

Affected Public: Business or other for-profit organizations. Form SLT (1505-0235).

Estimated Number of Respondents: 150.

Estimated Average Time per Respondent: Average 11.4 hours per respondent per filing. The estimated average burden per respondent varies widely, from about 17 hours per filing for a U.S.-resident custodian filing Part A and Part B to about 6.5 hours for a U.S.-resident issuer or U.S.-resident end-investor filing Part B.

Estimated Total Annual Burden Hours: 20,520 hours, based on 12 reporting periods per year.

Request for Comments: Comments submitted in response to this notice will be summarized and/or included in the request for Office of Management and Budget approval. All comments will become a matter of public record. The public is invited to submit written comments concerning: (a) Whether Form SLT is necessary for the proper performance of the functions of the Office, including whether the information will have practical uses; (b) the accuracy of the above estimate of the burdens; (c) ways to enhance the quality, usefulness and clarity of the information to be collected; (d) ways to minimize the reporting and/or record keeping burdens on respondents, including the use of information technologies to automate the collection of the data; and (e) estimates of capital or start-up costs of operation, maintenance and purchase of services to provide information.

Dwight Wolkow,
Administrator, International Portfolio Investment Data Reporting Systems.

[FR Doc. 2014-03028 Filed 2-11-14; 8:45 am]

BILLING CODE 4810-25-P